DEPARTMENT OF THE INTERIOR

Bureau of Land Management

[CACA 47740, LLCAD07000, L51030000.FX0000, LVRAB109AA01]

Notice of Availability of the Final Environmental Impact Statement for the Imperial Valley Solar, LLC Project, California and the Proposed California Desert Conservation Area Plan Amendment

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Proposed Resource Management Plan (RMP) Amendment/Final Environmental Impact Statement (EIS) for the Imperial Valley Solar, LLC (IVS) Project and by this notice is announcing its availability.

DATES: The BLM planning regulations state that any person who meets the conditions described in the regulations may protest the BLM's Proposed RMP Amendment. A person who meets the conditions must file the protest within 30 days after the date the Environmental Protection Agency publishes its notice of availability in the Federal Register. The BLM will also be accepting additional public comments on the RMP/EIS within 30 days after the date that the Environmental Protection Agency publishes its Notice of Availibility in the Federal Register. Comments can be sent to Jim Stobaugh at the addresses given below. All substantive comments will be reviewed and responded to in the Record of Decision.

ADDRESSES: Copies of the Proposed RMP Amendment/Final EIS are available for public inspection at the El Centro Field Office, 1661 S. 4th Street, El Centro, California 92243. Interested persons may also review the Proposed RMP Amendment/Final EIS on the following Web site: http://www.blm.gov/ca/st/en/fo/elcentro/nepa/stirling.html. All protests must be in writing and mailed to one of the following addresses:

Regular mail | Overnight mail
BLM Director (210), Attention: Brenda Williams, P.O. Box 66538, Washington, DC 20035 | BLM Director (210), Attention: Brenda Williams, 1620 L Street, NW., Suite 1075, Washington, DC 20036.

All comments must be in writing and sent to Jim Stobaugh, BLM Project Manager, by mail at Bureau of Land Management, P.O. Box 12000, Reno, Nevada 89520; or by e-mail at Jim_Stobaugh@blm.gov.

FOR FURTHER INFORMATION CONTACT: Jim Stobaugh, BLM Project Manager, by telephone at (775) 861-6478; through mail at Bureau of Land Management, P.O. Box 12000, Reno, Nevada 89520; or by e-mail at Jim_Stobaugh@blm.gov.

SUPPLEMENTARY INFORMATION: Stirling Energy Systems (SES) filed right-of-way (ROW) application CACA-47740 for the SES Solar Two Project. Afrter merging with Tessera Soar the applicant changed its name to Imperial Valley Solar, LLC. The project name, SES Solar Two, has also been changed to the Imperial Valley Solar, LLC project. The proposed IVS Project is a concentrated solar electrical generating facility capable of generating 709 megawatts (MW) of renewable power. The entire project encompasses approximately 6,144 acres of BLM-managed lands. The project site is in Imperial County, California, approximately 4 miles east of Ocotillo and 14 miles west of El Centro. Generally, the site is bounded on the north by the San Diego Metropolitan Transit System/San Diego and Arizona Eastern Railway and on the south by Interstate Highway 8. The eastern boundary is approximately 1.5 miles west of Dunaway Road and the western boundary is the westerly section line in Section 22 in Township 16 South, Range 12 East. An additional 110-acre laydown construction area is proposed east of Dunaway Road.

IVS proposes to use SunCatcher technology on the site. A SunCatcher is a 25-kilowatt solar dish designed to automatically track the sun and collect and focus solar energy onto a power conversion unit (PCU), which generates electricity. The system consists of a 38-foot high by 40-foot wide solar concentrator in a dish structure that supports an array of curved glass mirror facets. These mirrors concentrate solar energy onto the solar receiver of the PCU.

The project also includes an electrical transmission line, water supply pipeline, and access road. A new 230-kilovolt (kV) substation would be constructed in approximately the center of the project site near a main services complex that is also part of the proposal. The substation would be connected to the existing San Diego Gas and Electric Imperial Valley Substation by a 10.3-mile long, double-circuit 230-kV transmission line. Approximately 7.6 miles of this new line would be outside the project area, but is included in the analysis. The transmission line would occupy approximately 92 acres.

The BLM has entered into a MOU with the California Energy Commission (CEC) to conduct a joint environmental review of solar thermal projects that are proposed on Federal land managed by the BLM, with the CEC as the lead agency preparing the environmental documents. The BLM and CEC have agreed through the MOU to conduct the review of the IVS Project in a single combined NEPA/California Environmental Quality Act process and document.

The Notice of Intent to Prepare an EIS/Staff Assessment and Proposed Land Use Plan Amendment for the Proposed Imperial Valley Solar Project in Imperial County, California was published on October 17, 2008 (see 73 FR 61902). The BLM held two public scoping meetings in El Centro, California, on November 24 and December 18, 2008. The formal scoping period ended January 2, 2010. The BLM invited the National Park Service to enter a Memorandum of Understanding (MOU), as a cooperating agency in the EIS, for its special expertise concerning the Juan Batista de Anza National Historic Trail.

In addition, the BLM and the U.S. Army Corps of Engineers (Corps) entered into an MOU to formalize the Corps as a Federal cooperating agency in developing the Final EIS. The Corps' requirements under the Clean Water Act (CWA), Section 404(b)(1) Guidelines are to identify and authorize only the Least Environmentally Damaging Practicable Alternative which maximizes avoidance and minimizes impacts to aquatic resources of the United States. The Corps and the applicant are working with the BLM and CEC to identify the project proposal that would reasonably comply with the Corps' requirements under the CWA and 404(b)(1) Guidelines.

The Notice of Availability of the Draft Environmental Impact Statement/Staff Assessment for the Stirling Energy Systems Solar Two Project and Possible California Desert Conservation Area Plan Amendment was published in the Federal Register on February 22, 2010 (see 75 FR 7624). Comments on the Draft RMP Amendment/Draft EIS/Staff Assessment received from the public and internal BLM review were considered and incorporated, as appropriate, into the proposed plan amendment.

Public comments resulted in the addition of clarifying text, but did not significantly change the proposed land use plan decision.

The BLM's purpose and need for the Solar Two project EIS/SA is to respond to IVS LLC's application under Title V of FLPMA (43 U.S.C. 1761) for a ROW grant to construct, operate, and decommission a solar thermal facility on public lands in compliance with FLPMA, the BLM ROW regulations, and other applicable Federal laws.

The BLM will decide whether to approve, approve with modification, or deny a ROW grant to IVS, LLC for the proposed IVS project. The BLM will also consider amending the California Desert Conservation Area (CDCA) Plan (1980, as amended) through this analysis. The CDCA Plan, while recognizing the potential compatibility of solar generation facilities on public lands, requires that all sites associated with power generation or transmission not identified in that plan be considered through the BLM's land use plan amendment process. If the BLM decides to grant a ROW, the BLM would also amend the CDCA Plan.

In the Final EIS analysis, the BLM's proposed action is to authorize the IVS Project and approve a CDCA Plan amendment in response to the application received from IVS. In addition to analyzing the proposed action, the BLM has analyzed the following alternatives: Authorize a smaller 300 MW alternative and amend the CDCA Plan; authorize the project as described in the Drainage Avoidance #1 alternative that may reduce impacts to primary water drainages of the United States and amend the CDCA Plan; and authorize the project as described in the more restrictive Drainage Avoidance #2 alternative that may substantially reduce impacts in eastern and western high flow water drainages of the United States and amend the CDCA Plan. As required under the California Environmental Quality Act and NEPA, the EIS analyzes a No Action alternative that would not require a CDCA Plan amendment. The BLM has also analyzed a No Project alternative to deny the project, but amend the CDCA Plan to potentially allow other solar energy power generation projects on the project site. The BLM additionally has analyzed a No Project alternative to deny the project and amend the CDCA Plan to prohibit solar energy power generation projects on the project site. The BLM has taken into consideration the provisions of the Energy Policy Act of 2005 and Secretarial Orders 3283 Enhancing Renewable Energy Development on the Public Lands and 3285A1 Renewable Energy Development by the Department of the Interior in responding to the IVS application.

The BLM evaluated the potential impacts of the proposed IVS Project in this EIS on air quality, biological resources, cultural resources, water resources, geological resources and hazards, land use, noise, paleontological resources, public health, socioeconomics, soils, traffic and transportation, visual resources, and other resources.

Instructions for filing a protest with the Director of the BLM regarding the Proposed RMP Amendment may be found in the Final EIS “Dear Reader” Letter and at 43 CFR 1610.5-2. Protests must be received by the Director by the close of the protest period to be accepted as valid. Protests that are postmarked by the close of the protest period, but received by the Director after the close of the protest period will only be accepted as valid if the protesting party also provides a faxed or e-mailed advance copy before the close of the protest period.

E-mailed and faxed protests will not be accepted as valid protests unless the protesting party also provides the original letter by either regular or overnight mail by the close of the protest period. Under these conditions, the BLM will consider the e-mailed or faxed protest as an advance copy that will receive full consideration. If you wish to provide the BLM with such advance notification, please direct faxed protests to the attention of the BLM protest coordinator at (202) 912-7212, and e-mails to Brenda_Hudgens-Williams@blm.gov.

All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Thomas Pogacnik,
Deputy State Director, Natural Resources.

Authority: 40 CFR 1506.6, 1506.10 and 43 CFR 1610.2, 1610.5.

[FR Doc. 2010-18471 Filed 7-27-10; 8:45 am]

BILLING CODE 4310-40-P